DEPARTMENT OF TRANSPORTATION

Federal Aviation Administration

14 CFR Part 97

[Docket No. 31197; Amdt. No. 3803]

Standard Instrument Approach Procedures, and Takeoff Minimums and Obstacle Departure Procedures; Miscellaneous Amendments

AGENCY: Federal Aviation Administration (FAA), DOT.

ACTION: Final rule.

SUMMARY: This rule establishes, amends, suspends, or removes Standard Instrument Approach Procedures (SIAPs) and associated Takeoff Minimums and Obstacle Departure Procedures (ODPs) for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective June 14, 2018. The compliance date for each SIAP, associated Takeoff Minimums, and ODP is specified in the amendatory provisions.

The incorporation by reference of certain publications listed in the regulations is approved by the Director of the Federal Register as of June 14, 2018.

ADDRESSES: Availability of matters incorporated by reference in the amendment is as follows:

For Examination

1. U.S. Department of Transportation, Docket Ops-M30, 1200 New Jersey Avenue SE, West Bldg., Ground Floor, Washington, DC 20590-0001.

2. The FAA Air Traffic Organization Service Area in which the affected airport is located;

3. The office of Aeronautical Navigation Products, 6500 South MacArthur Blvd., Oklahoma City, OK 73169 or,

4. The National Archives and Records Administration (NARA). For information on the availability of this material at NARA, call 202-741-6030, or go to: http://www.archives.gov/federal_register/code_of_federal_regulations/ibr_locations.html.

Availability

All SIAPs and Takeoff Minimums and ODPs are available online free of charge. Visit the National Flight Data Center at nfdc.faa.gov to register. Additionally, individual SIAP and Takeoff Minimums and ODP copies may be obtained from the FAA Air Traffic Organization Service Area in which the affected airport is located.

FOR FURTHER INFORMATION CONTACT: Thomas J. Nichols, Flight Procedure Standards Branch (AFS-420), Flight Technologies and Programs Divisions, Flight Standards Service, Federal Aviation Administration, Mike Monroney Aeronautical Center, 6500 South MacArthur Blvd. Oklahoma City, OK 73169 (Mail Address: P.O. Box 25082, Oklahoma City, OK 73125) Telephone: (405) 954-4164.

SUPPLEMENTARY INFORMATION: This rule amends Title 14 of the Code of Federal Regulations, part 97 (14 CFR part 97), by establishing, amending, suspending, or removes SIAPS, Takeoff Minimums and/or ODPS. The complete regulatory description of each SIAP and its associated Takeoff Minimums or ODP for an identified airport is listed on FAA form documents which are incorporated by reference in this amendment under 5 U.S.C. 552(a), 1 CFR part 51, and 14 CFR part 97.20. The applicable FAA forms are FAA Forms 8260-3, 8260-4, 8260-5, 8260-15A, and 8260-15B when required by an entry on 8260-15A.

The large number of SIAPs, Takeoff Minimums and ODPs, their complex nature, and the need for a special format make publication in the Federal Register expensive and impractical. Further, airmen do not use the regulatory text of the SIAPs, Takeoff Minimums or ODPs, but instead refer to their graphic depiction on charts printed by publishers of aeronautical materials. Thus, the advantages of incorporation by reference are realized and publication of the complete description of each SIAP, Takeoff Minimums and ODP listed on FAA form documents is unnecessary. This amendment provides the affected CFR sections and specifies the types of SIAPs, Takeoff Minimums and ODPs with their applicable effective dates. This amendment also identifies the airport and its location, the procedure, and the amendment number.

Availability and Summary of Material Incorporated by Reference

The material incorporated by reference is publicly available as listed in the ADDRESSES section.

The material incorporated by reference describes SIAPS, Takeoff Minimums and/or ODPS as identified in the amendatory language for part 97 of this final rule.

The Rule

This amendment to 14 CFR part 97 is effective upon publication of each separate SIAP, Takeoff Minimums and ODP as Amended in the transmittal. Some SIAP and Takeoff Minimums and textual ODP amendments may have been issued previously by the FAA in a Flight Data Center (FDC) Notice to Airmen (NOTAM) as an emergency action of immediate flight safety relating directly to published aeronautical charts.

The circumstances that created the need for some SIAP and Takeoff Minimums and ODP amendments may require making them effective in less than 30 days. For the remaining SIAPs and Takeoff Minimums and ODPs, an effective date at least 30 days after publication is provided.

Further, the SIAPs and Takeoff Minimums and ODPs contained in this amendment are based on the criteria contained in the U.S. Standard for Terminal Instrument Procedures (TERPS). In developing these SIAPs and Takeoff Minimums and ODPs, the TERPS criteria were applied to the conditions existing or anticipated at the affected airports. Because of the close and immediate relationship between these SIAPs, Takeoff Minimums and ODPs, and safety in air commerce, I find that notice and public procedure under 5 U.S.C. 553(b) are impracticable and contrary to the public interest and, where applicable, under 5 U.S.C 553(d), good cause exists for making some SIAPs effective in less than 30 days.

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979) ; and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, Navigation (Air).

Issued in Washington, DC, on June 1, 2018.
John S. Duncan,
Executive Director, Flight Standards Service.

Adoption of the Amendment

Accordingly, pursuant to the authority delegated to me, Title 14, Code of Federal Regulations, Part 97 (14 CFR part 97) is amended by establishing, amending, suspending, or removing Standard Instrument Approach Procedures and/or Takeoff Minimums and Obstacle Departure Procedures effective at 0901 UTC on the dates specified, as follows:

PART 97—STANDARD INSTRUMENT APPROACH PROCEDURES

1. The authority citation for part 97 continues to read as follows:

Authority: 49 U.S.C. 106(f), 106(g), 40103, 40106, 40113, 40114, 40120, 44502, 44514, 44701, 44719, 44721-44722.

2. Part 97 is amended to read as follows:

Effective 19 July 2018

Anchorage, AK, Ted Stevens Anchorage Intl, ILS RWY 15, Amdt 6E

Anchorage, AK, Ted Stevens Anchorage Intl, RNAV (RNP) Z RWY 7R, Orig-D

Buckland, AK, Buckland, NDB/DME RWY 11, Amdt 1, CANCELED

Buckland, AK, Buckland, NDB/DME RWY 29, Amdt 1, CANCELED

Buckland, AK, Buckland, RNAV (GPS) RWY 11, Amdt 2

Buckland, AK, Buckland, RNAV (GPS) RWY 29, Amdt 1

Buckland, AK, Buckland, Takeoff Minimums and Obstacle DP, Amdt 2

Ketchikan, AK, Ketchikan Intl, KETCHIKAN SIX, Graphic DP

Ketchikan, AK, Ketchikan Intl, SKOWL TWO, Graphic DP

Ketchikan, AK, Ketchikan Intl, Takeoff Minimums and Obstacle DP, Amdt 9

Little Rock, AR, Bill and Hillary Clinton National/Adams Field, ILS OR LOC RWY 4L, Amdt 26A

Little Rock, AR, Bill and Hillary Clinton National/Adams Field, ILS OR LOC RWY 4R, Amdt 2D

Little Rock, AR, Bill and Hillary Clinton National/Adams Field, ILS OR LOC RWY 22L, Orig-D

Little Rock, AR, Bill and Hillary Clinton National/Adams Field, RNAV (GPS) RWY 4L, Amdt 1D

Little Rock, AR, Bill and Hillary Clinton National/Adams Field, RNAV (GPS) RWY 4R, Amdt 1D

Little Rock, AR, Bill and Hillary Clinton National/Adams Field, RNAV (GPS) RWY 18, Amdt 1E

Little Rock, AR, Bill and Hillary Clinton National/Adams Field, RNAV (GPS) RWY 22L, Amdt 1D

Little Rock, AR, Bill and Hillary Clinton National/Adams Field, RNAV (GPS) RWY 22R, Amdt 1C

Little Rock, AR, Bill and Hillary Clinton National/Adams Field, RNAV (GPS) RWY 36, Orig-C

Little Rock, AR, Bill and Hillary Clinton National/Adams Field, Takeoff Minimums and Obstacle DP, Amdt 9

Pago Pago, AS, Pago Pago Intl, ILS OR LOC RWY 5, Amdt 14

Pago Pago, AS, Pago Pago Intl, RNAV (GPS) RWY 5, Orig

Pago Pago, AS, Pago Pago Intl, RNAV (GPS) RWY 23, Orig

Pago Pago, AS, Pago Pago Intl, VOR OR TACAN-B, Amdt 6

Show Low, AZ, Show Low Rgnl, NDB-A, Amdt 2

Show Low, AZ, Show Low Rgnl, RNAV (GPS) RWY 25, Amdt 3

Show Low, AZ, Show Low Rgnl, Takeoff Minimums and Obstacle DP, Amdt 2

San Carlos, CA, San Carlos, Takeoff Minimums and Obstacle DP, Amdt 1A

Visalia, CA, Visalia Muni, ILS OR LOC RWY 30, Amdt 7B

Visalia, CA, Visalia Muni, RNAV (GPS) RWY 12, Amdt 1C

Visalia, CA, Visalia Muni, RNAV (GPS) RWY 30, Amdt 1B

Visalia, CA, Visalia Muni, VOR RWY 12, Amdt 6C

Eagle, CO, Eagle County Rgnl, LDA RWY 25, Amdt 1

Eagle, CO, Eagle County Rgnl, RNAV (GPS)-D, Amdt 1

Palm Coast, FL, Flagler Executive, RNAV (GPS) RWY 6, Amdt 2

Palm Coast, FL, Flagler Executive, RNAV (GPS) RWY 11, Amdt 2

Palm Coast, FL, Flagler Executive, RNAV (GPS) RWY 24, Amdt 1

Palm Coast, FL, Flagler Executive, RNAV (GPS) RWY 29, Amdt 1

Palm Coast, FL, Flagler Executive, Takeoff Minimums and Obstacle DP, Amdt 2

West Palm Beach, FL, Palm Beach Intl, RNAV (GPS) Y RWY 10L, Amdt 3C

Kailua/Kona, HI, Ellison Onizuka Kona Intl at Keahole, RNAV (GPS) RWY 35, Amdt 2

Kailua/Kona, HI, Ellison Onizuka Kona Intl at Keahole, RNAV (GPS) Y RWY 35, Amdt 1B, CANCELED

Red Oak, IA, Red Oak Muni, RNAV (GPS) RWY 5, Amdt 1B

Morris, IL, Morris Muni—James R Washburn Field, VOR-A, Orig-D

Covington, KY, Cincinnati/Northern Kentucky Intl, ILS OR LOC RWY 18C, ILS RWY 18C SA CAT I, ILS RWY 18C SA CAT II, Amdt 23

Covington, KY, Cincinnati/Northern Kentucky Intl, ILS OR LOC RWY 27, ILS RWY 27 SA CAT I, ILS RWY 27 SA CAT II, Amdt 18

Benton Harbor, MI, Southwest Michigan Rgnl, ILS OR LOC RWY 28, Amdt 9

Benton Harbor, MI, Southwest Michigan Rgnl, RNAV (GPS) RWY 28, Amdt 2B

Detroit, MI, Coleman A Young Muni, ILS OR LOC RWY 15, Amdt 11

Detroit, MI, Coleman A Young Muni, ILS OR LOC RWY 33, Amdt 15

Pontiac, MI, Oakland County Intl, ILS OR LOC RWY 9R, Amdt 13

Pontiac, MI, Oakland County Intl, LOC BC RWY 27L, Amdt 2

Pontiac, MI, Oakland County Intl, RNAV (GPS) RWY 9R, Orig-B

Pontiac, MI, Oakland County Intl, RNAV (GPS) RWY 27L, Orig-A

Pontiac, MI, Oakland County Intl, VOR RWY 9R, Amdt 24, CANCELED

Pontiac, MI, Oakland County Intl, VOR RWY 27L, Amdt 15, CANCELED

Duluth, MN, Duluth Intl, COPTER ILS OR LOC RWY 27, Amdt 2B

Duluth, MN, Duluth Intl, ILS OR LOC RWY 9, ILS RWY 9 (SA CAT I), ILS RWY 9 (CAT II), Amdt 22B

Duluth, MN, Duluth Intl, ILS OR LOC RWY 27, Amdt 10C

Duluth, MN, Duluth Intl, RNAV (GPS) RWY 3, Orig-B

Duluth, MN, Duluth Intl, RNAV (GPS) RWY 9, Amdt 1D

Duluth, MN, Duluth Intl, RNAV (GPS) RWY 21, Orig-B

Duluth, MN, Duluth Intl, RNAV (GPS) RWY 27, Orig-C

Minneapolis, MN, Airlake, RNAV (GPS) RWY 12, Amdt 1

Minneapolis, MN, Airlake, VOR RWY 12, Amdt 3

Missoula, MT, Missoula Intl, RNAV (RNP) RWY 30, Orig-C

Gastonia, NC, Gastonia Muni, NDB RWY 3, Amdt 9A

Nebraska City, NE, Nebraska City Muni, NDB RWY 15, Amdt 1A

Morristown, NJ, Morristown Muni, RNAV (GPS) RWY 5, Amdt 4

New York, NY, John F Kennedy Intl, COPTER RNAV (GPS) 027, Orig-C

New York, NY, John F Kennedy Intl, ILS OR LOC RWY 4L, Amdt 11B

New York, NY, John F Kennedy Intl, ILS OR LOC RWY 4R, ILS RWY 4R (CAT II), ILS RWY 4R (CAT III), Amdt 30A

New York, NY, John F Kennedy Intl, ILS OR LOC RWY 13L, ILS RWY 13L (CAT II), Amdt 18A

New York, NY, John F Kennedy Intl, ILS OR LOC RWY 22L, ILS RWY 22L (CAT II), ILS RWY 22L (CAT III), Amdt 24C

New York, NY, John F Kennedy Intl, ILS OR LOC RWY 22R, Amdt 2B

New York, NY, John F Kennedy Intl, ILS OR LOC RWY 31L, Amdt 11A

New York, NY, John F Kennedy Intl, ILS OR LOC RWY 31R, Amdt 16A

New York, NY, John F Kennedy Intl, RNAV (GPS) RWY 22R, Amdt 1F

New York, NY, John F Kennedy Intl, RNAV (GPS) Y RWY 4L, Amdt 3A

New York, NY, John F Kennedy Intl, RNAV (GPS) Y RWY 4R, Amdt 2A

New York, NY, John F Kennedy Intl, RNAV (GPS) Y RWY 22L, Amdt 1E

New York, NY, John F Kennedy Intl, RNAV (GPS) Y RWY 31L, Amdt 2A

New York, NY, John F Kennedy Intl, RNAV (GPS) Y RWY 31R, Amdt 2B

New York, NY, John F Kennedy Intl, RNAV (RNP) Z RWY 4L, Amdt 2A

New York, NY, John F Kennedy Intl, RNAV (RNP) Z RWY 4R, Amdt 1A

New York, NY, John F Kennedy Intl, RNAV (RNP) Z RWY 22L, Amdt 1C

New York, NY, John F Kennedy Intl, RNAV (RNP) Z RWY 31L, Amdt 1A

New York, NY, John F Kennedy Intl, RNAV (RNP) Z RWY 31R, Amdt 1A

Saratoga Springs, NY, Saratoga County, RNAV (GPS) RWY 23, Amdt 2

Hillsboro, OH, Highland County, Takeoff Minimums and Obstacle DP, Amdt 4

Hollis, OK, Hollis Muni, RNAV (GPS) RWY 18, Orig

Hollis, OK, Hollis Muni, RNAV (GPS) RWY 36, Orig

Hollis, OK, Hollis Muni, Takeoff Minimums and Obstacle DP, Orig

Astoria, OR, Astoria Rgnl, ASTORIA THREE, Graphic DP

Astoria, OR, Astoria Rgnl, Takeoff Minimums and Obstacle DP, Amdt 7

Portland, OR, Portland-Hillsboro, ILS OR LOC RWY 13R, Amdt 10B

Kenedy, TX, Karnes County, RNAV (GPS) RWY 16, Orig-B

Mineola/Quitman, TX, Wood County, RNAV (GPS) RWY 18, Orig-B

Mineola/Quitman, TX, Wood County, RNAV (GPS) RWY 36, Orig-C

Port Isabel, TX, Port Isabel-Cameron County, Takeoff Minimums and Obstacle DP, Amdt 2B

Rice Lake, WI, Rice Lake Rgnl—Carl's Field, RNAV (GPS) RWY 19, Amdt 3

Afton, WY, Afton Muni, AFTON FOUR, Graphic DP

Rescinded: On May 23, 2018 (83 FR 23802), the FAA published an Amendment in Docket No. 31193, Amdt No. 3799, to Part 97 of the Federal Aviation Regulations under section 97.23. The following entry for Wellsville, NY, effective July 19, 2018, is hereby rescinded in its entirety:

Wellsville, NY, Wellsville Muni Arpt, Tarantine Fld, VOR-A, Amdt 6, CANCELED

[FR Doc. 2018-12713 Filed 6-13-18; 8:45 am]

BILLING CODE 4910-13-P